DEPARTMENT OF THE INTERIOR

Bureau of Land Management

[LLNVB01000.L71220000.EX0000.LVTFF15F6810 MO# 4500081505]

Notice of Intent To Prepare an Environmental Impact Statement for the Proposed Greater Phoenix Mine Project, Lander County, NV

AGENCY: Bureau of Land Management, Interior.

ACTION: Notice.

SUMMARY: In compliance with the National Environmental Policy Act of 1969, as amended (NEPA), and the Federal Land Policy and Management Act of 1976, as amended, the Bureau of Land Management (BLM) Mount Lewis Field Office, Battle Mountain, Nevada, intends to prepare an Environmental Impact Statement (EIS) and by this notice is announcing the beginning of the scoping process to solicit public comments and identify issues.

DATES: This notice initiates the public scoping process for the EIS. Comments on issues may be submitted in writing until October 29, 2015. The date(s) and location(s) of any scoping meetings will be announced at least 15 days in advance through local media, newspapers and the BLM Web site at: http://www.blm.gov/nv/st/en/fo/battle_mountain_field.html. In order to be considered during the preparation of the Draft EIS, all comments must be received prior to the close of the 30-day scoping period or 15 days after the last public meeting, whichever is later. The BLM will provide additional opportunities for public participation upon publication of the Draft EIS.

ADDRESSES: You may submit comments related to the proposed Greater Phoenix Mine Project by any of the following methods:

• Email: BLM_NV_BMDO_GreaterPhoenixProject@blm.gov

• Fax: 775-635-4034

• Mail: Mount Lewis Field Office, 50 Bastian Road, Battle Mountain, NV 89820.

Documents pertinent to this proposal may be examined at the Mount Lewis Field Office.

FOR FURTHER INFORMATION CONTACT: Chris Worthington, Project Manager, telephone: 775-635-4144; address: 50 Bastian Road, Battle Mountain, NV 89820; email: BLM_NV_BMDO_GreaterPhoenixProejct@blm.gov. Contact Mr. Worthington if you wish to add your name to our mailing list. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: Newmont Mining Corporation, Inc. (NMC) proposes to amend the existing Phoenix Mine Plan of Operations to construct, operate, reclaim, and close an open pit, heap leach, gold and copper mining operation known as the Greater Phoenix Mine Project (Project) located 14 miles south of Battle Mountain, Nevada, in Lander County. The proposed Project would be located within all or portions of the following Townships, Ranges, and Sections relative to the Mount Diablo Baseline and Meridian: Township 30 North, Range 43 East, Sections 01, 02, 03, 04, 05, 08, 09, 10, 11, 14, 15, 16, 17, 20, 21, and 22; and Township 31 North, Range 43 East, Sections 15, 16, 20, 21, 22, 23, 25, 26, 27, 28, 29, 32, 33, 34, 35 and 36. The proposed Plan of Operations amendment would include increasing the existing Phoenix Mine plan boundary by 10,429 acres to 18,657 acres, of which approximately 9,950 acres is public land managed by the Mount Lewis Field Office. New surface disturbance would include approximately 3,245 acres, which includes approximately 2,285 acres of surface disturbance on public land administered by the BLM, and approximately 960 acres of surface disturbance on private land controlled by NMC.

The proposed Project consists of a modification to an existing mining Plan of Operations and a new right-of-way (ROW) grant authorization to be analyzed in a single NEPA analysis document. The proposed Project would create one large pit encompassing the footprint of the existing Bonanza and Fortitude pit areas into one large Phoenix Pit, of approximately 1,912 acres, of which approximately 568 acres is public land administered by the BLM. The proposed pit depths would intercept groundwater and pit dewatering would be necessary. Following mine closure, pit water would be managed and treated to meet water quality standards and subsequently put to beneficial use. The primary components associated with the proposed Project would include the open pit, two new waste rock dump facilities (WRDF), an expansion of an existing WRDF, expansion of an existing heap leach pad, an expansion of an existing tailings storage facility, and a new borrow area.

NMC would continue to employ the existing workforce of approximately 500 employees for the construction, operation, reclamation, and closure of the proposed project expansion, which is anticipated to extend the mine life by approximately another 23 years from 2040 to 2063.

The proposed Project surface disturbance affecting Greater Sage-Grouse habitat on BLM administered land is 7 acres of Preliminary Priority Habitat (PPH) and 108 acres of Preliminary General Habitat (PGH). Since 2013, BLM biologists at the Mount Lewis Field Office have coordinated with the Nevada Department of Wildlife (NDOW) and the BLM State Office regarding NMC's disturbance to Greater Sage-Grouse habitat. Collectively, the organizations will formulate best management practices for Greater Sage-Grouse and other wildlife species and will agree on measures to mitigate the disturbance to Greater Sage-Grouse habitat through the EIS development.

The purpose of the public scoping process is to determine relevant issues that will influence the scope of the environmental analysis, including potential alternatives, and guide the process for developing the EIS. At present, the BLM has identified the following preliminary issues: Closure of the cyanide heap leach pad (s), water management, air quality impacts, wildlife (including migratory birds), special status species, noise and visual issues, soils, recreation, cultural resources, Native American cultural concerns, and grazing management.

The BLM will utilize and coordinate the NEPA scoping process to help fulfill the public involvement process under the National Historic Preservation Act (NHPA) (54 U.S.C. 306108) as provided in 36 CFR 800.2(d)(3). The information about historic and cultural resources within the area potentially affected by the proposed Project will assist the BLM in identifying and evaluating impacts to such resources in the context of both NEPA and the NHPA.

The BLM will consult with Indian tribes on a government-to-government basis in accordance with Executive Order 13175 and other policies. Tribal concerns, including impacts on Indian trust assets and potential impacts to cultural resources, will be given due consideration. Federal, State, and local agencies, along with tribes and other stakeholders that may be interested in or affected by the proposed Project that the BLM is evaluating, are invited to participate in the scoping process and, if eligible, may request or be requested by the BLM to participate in the development of the environmental analysis as a cooperating agency.

Before including your address, phone number, email address, or other personal identifying information in your comment, you should be aware that your entire comment—including your personal identifying information—may be made publicly available at any time. While you can ask us in your comment to withhold your personal identifying information from public review, we cannot guarantee that we will be able to do so.

Authority: 40 CFR 1501.7.

Jon D. Sherve,
Field Manager, Mount Lewis Field Office.

[FR Doc. 2015-24432 Filed 9-28-15; 8:45 am]

BILLING CODE 4310-HC-P